FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—04/10/2000
20002243 | Cummins Engine Company, Inc | Ben J. Strafuss | Cummins Mid-South, Inc.
20002390 | John H. Dayani, PhD | MedicaLogic, Inc | MedicaLogic, Inc.
20002437 | Matrix Partners IV, L.P | OnDisplay, Inc | OnDisplay, Inc.
20002473 | Charles E. Hurwitz | Plymouth Tube Company | Plymouth Tube Company.
20002510 | Behrman Capital II, L.P | Flashcom, Inc | Flashcom, Inc.
20002521 | Medical Manager Corporation | Medical Mutual of Ohio | Medical Mutal of Ohio.
20002524 | URM Stores, Inc | Rosauers Employee Stock Ownership Trust | Rosauers Supermarkets, Inc.
20002550 | CGW Southeast Partners III, L.P | Printmasters, Inc | Printmasters, Inc.
20002551 | David Bing | Lear Corporation | Lear Corporation.
20002552 | Radio One, Inc | William G. Mays | IBL L.L.C.
20002556 | Z-Tel Technologies, Inc. | Touch 1, Inc | Touch 1, Inc.
20002562 | Avnet, Inc | Savior Technology Group, Inc | Savior Technology Group, Inc.
20002563 | Arbella Mutual Insurance Company | Hellman & Friedman Capital Partners III, L.P | The Covenant Group, Inc.
20002565 | 24/7 Media, Inc | Exactis.com, Inc | Exactis.com, Inc.
20002569 | Softbank Technology Ventures V, L.P | TeraBeam Corporation | TeraBeam Corporation.
20002570 | Corman Foundation, Inc. | Z-Tel Technologies, Inc | Z-Tel Technologies, Inc.
20002630 | Marmon Holdings, Inc | Hampshire Equity Partners II, L.P | Streater, Inc.
20002647 | Royal Bank of Canada | Prism Financial Corporation | Prism Financial Corporation.
20002679 | John F. Allen | U.S. Bancorp | U.S. Bancorp.
Transactions Granted Early Termination—04/11/2000
20002522 | Brentwood Associates Private Equity III, L.P | Thomas Melk | Outer Circle Products, Ltd.
20002534 | Westgage International Limited | Illinois Superconductor Corporation | Illinois Superconductor Corporation.
20002537 | Elliott Associates, L.P | Illinois Superconductor Corporation | Illinois Superconductor Corporation.
20002571 | Cendant Corporation | FundsXpress, Inc | FundsXpress, Inc.
20002573 | Gulftech International, Inc | Luthi Machinery & Engineering Co., Inc | Luthi Machinery & Engineering Co., Inc.
20002577 | TPG Partners III, L.P | Convergent Communications, Inc | Convergent Communications, Inc.
20002580 | Cox Enterprises, Inc | Marlin Broadcasting, Inc | Marlin Broadcasting, Inc.
20002581 | Wells Fargo & Company | Gabriel Communications, Inc | Gabriel Communications, Inc.
20002586 | Paul G. Allen | National Discount Brokers Group, Inc | National Discount Brokers Group, Inc.
20002589 | Apostolos Allamanis | Ogden Corporation | Ogden Park Management, Inc., Jazzland, Inc.
20002590 | Gateway, Inc | eSoft, Inc | eSoft, Inc.
20002592 | Paul G. Allen | Rosetta Inpharmatics, Inc | rosetta Inphamatics, Inc.
20002593 | Stephen Adams | The Trident Partnership, L.P | Affinity Group Plans, Inc.
20002594 | Clayton, Dubilier & Rice Fund VI Limited Partnership | Complete Business Solutions, Inc | Complete Business Solutions, Inc.
20002596 | The SKM Equity Fund II, L.P | Murray Nadel | Nadel LLC.
20002602 | Amkor Technology, Inc | Anam Semiconductor, Inc | Anam Semiconductor, Inc.
20002603 | Trinity Industries, Inc | YSD Industries, Inc | YSD Industries, Inc.
20002606 | Thomas H. Lee Equity Fund IV, L.P | Digital Broadband Communications, Inc | Digital Broadband Communications, Inc.
20002608 | Solectron Corporation | American Wireless Services, Inc | American Wireless Services, Inc.
20002610 | Bell Microproducts, Inc | Herbert F. Rorke | Rorke Data Incorporated.
20002613 | California Almond Growers Exchange | Campbell Soup Company | MacFarms of Hawaii, Inc.
20002624 | Jemison Investment Co., Inc | Braselle Corp. d/b/a Demsey and Associates | Brasell Corp. d/b/a Demsey and Associates.
20002625 | ACT Manufacturing, Inc | GSS Array Technology Public Company Limited | GSS Array Technology Public Company Limited.
20002639 | Vector Industries Inc | Wolseley plc | Diemold Service Co. Inc. and Riverside Tractor Co. Inc. GOS Investments Limited and Calumet International, Inc
20002640 | Koninklijke Ahold NV | E. Philip Saunders | Tops Markets, Inc.
20002641 | Peco Energy Company | Dashiell Corporation | Dashiell Corporation.
20002643 | Leggett & Platt, Incorporated | Carmine E. and Rosina Guastafeste | Edron Fixture Corp., Royal Store Fixtures Corp. Florida Plating & Finishing Corp.
20002645 | TCV III (Q), L.P | Emerald-Delaware, Inc | Emerald-Delaware, Inc.
Transactions Granted Early Termination—04/13/2000
19992774 | BP Amoco p.l.c | Atlantic Richfield Company | Atlantic Richfield Company.
20001242 | Deere & Company | Metso Corporation | Timberjack Corporation. Timberjack Group Oyj, Timberjack Oy, Timberjack Sales Oy. Timberjack Holding AB, Timberjack AB, et al.
20002377 | ColArt Investments Ltd | Voting Trust dated December 4, 1968 of v/s of Hallmark Cards | Binney & Smith Inc.
20002489 | American Home Products Corporation | Aviron | Aviron.
20002507 | Orbital Sciences Corporation | Acxiom Comporation | DataQuick Information Systems.
20002527 | GS Capital Partners III, L.P | Gabriel Communications, Inc | Gabriel Communications, Inc.
20002535 | GS Capital Partners III Offshore, L.P | Gabriel Communications, Inc | Gabriel Communications, Inc.
20002584 | Aruthur T. Shorin | The Topps Company, Inc | The Topps Company, Inc.
20002621 | Microsoft Corporation | Roy Watterstrom | Plural Inc.
Transactions Granted Early termination—04/14/2000
20002500 | El Paso Energy Corporation | VeloCom Inc | VeloCom Inc.
20002519 | Texas Utilities Company, doing Business as TXU Corp | Fort Bend Communication Companies, Inc | Fort Bend Communication Companies, Inc.
20002530 | Heritage Fund II, L.P | Will Holdings, Inc | Will Holdings, Inc.
20002533 | Softbank Corporation | America West Holdings Corporation | National Leisure Group, Inc.
20002582 | Rieter Holding Ltd | Bernard Terrat | ICBT Groupe S.A.
20002607 | Cooper Industries, Inc | Sigma-Aldrich Corporation | B-Line Systems Manufacturing, Inc. B-Line Systems, Inc. Sigma-Aldrich Corporation.
20002609 | James H. Clark | The Kiva Genetics Partnership, Inc | The Kiva Genetics Partnership, Inc.
20002623 | Linc.net, LLC | Irvin L. Gunter | Utility Consultants, Inc.
20002628 | Bernard Arnault | Paul G. Allen | Mercata, Inc.
20002632 | Linc.net, LLC | Thomas E. Murrell | George M. Construction, Inc.
20002637 | MCT of Russia, L.P | MediaOne Group, Inc | RTDC Holdings, Inc.
20002648 | Enron Corp | Quanta Services, Inc | Quanta Services, Inc.
20002652 | Gerald R. Forsythe | Black Hills Corporation | Black Hills Corporation.
20002653 | Black Hills Corporation | Gerald R. Forsythe | Indeck Capital, Inc.
20002656 | Mestek, Inc | Met-Coil Systems Corporation | Met-Coil Systems Corporation.
20002658 | ITC‸DeltaCom, Inc | James V. Martin | Bay Data Consultants, Inc.
20002659 | James V. Martin | ITC‸DeltaCom, Inc | ITC‸DeltaCom, Inc.
20002662 | Duke Energy Corporation | Exxon Mobil Corporation | Mobile Europe Gas Inc.
20002663 | Quad-C Partners V, L.P | Pulaski Furniture Corporation | Pulaski Furniture Corporation.
20002666 | Wolseley plc | Anderson Lumber Company | Anderson Lumber Company.
20002669 | Comverse Technology, Inc | Loronix Information Systems, Inc | Loronix Information Systems, Inc.
20002670 | Dofasco, Inc | Stronach Trust | Cosma Powerlasers Corporation. Cosma Powerlasers Limited.
20002671 | J.W. Childs Equity Partners II, L.P | Pharmacia Corporation | Pharmacia Corporation.
20002674 | AT&T Corp | Ledcor Inc | 380networks, Inc.
20002675 | ConAgra, Inc | Elizabeth L. and William H. Kapavik | Associated Beef City, Inc.
20002676 | Edward Eskandarian | Havas Advertising S.A | Havas Advertising S.A.
20002678 | Havas Advertising S.A | Synder Communications, Inc | Synder Communications, Inc.
20002682 | HealthCentral.com | Robert M. Haft | Vitamins.com, Inc.
20002683 | Robert M. Haft | Health Central.com | HealthCentral.com.
20002689 | Forvaltnings AB Ratos | Farr Company | Farr Company.
20002691 | Credence Systems Corporation | TMT, Inc | TMT, Inc.
20002692 | Sandler Capital Partners IV, L.P | Convergent Communications, Inc | Convergent Communications, Inc.
20002699 | CHB Capital Partners II, L.P | Harding Lawson Associates Group, Inc | Harding Lawson Associates Group, Inc.
20002701 | Oak Investment Partners VIII, L.P | Campus Pipeline, Inc | Campus Pipeline, Inc.
20002703 | Safeguard Scientifics, Inc | eMerge Interactive, Inc | eMerge Interactive, Inc.
20002704 | Meggitt PLC | S-TEC Corporation | S-TEC Corporation.
20002705 | Britax International, plc | Hexcel Corporation | Hexcel Corporation.
20002708 | Take-Two Interactive Software, Inc | Gathering of Developers, Inc | Gathering of Developers, Inc.
20002710 | Charles W. Ergen | iSky, Inc | iSky, Inc.
20002711 | Deutsche Bank AG | Saturn Acquisition Corporation | Saturn Acquisition Corporation.
20002717 | DEL 1995 Trust | James H. Long | Allstar Systems, Inc.
20002725 | GS Capital Partners II Offshore, L.P | GS Capital Partners II, L.P | MCG Credit Corporation.
20002733 | Welsh, Carson, Anderson & Stowe VIII, | James Martin Worldwide, plc | James Martin Worldwide, plc.
Transactions Granted Early Termination—04/18/2000
20001478 | Metso Oyl | Harnischfeger Industries, Inc., Debtor-in-Possession | Beloit Corporation.
20002042 | Phillips Petroleum Company | Chevron Corporation | Chevron Corporation.
20002043 | Chevron Corporation | Phillips Petroleum Company | Phillips Petroleum Company.
20002587 | HomeGold Financial, Inc | Ronald J. Sheppard | HomeSense Financial Corp.
20002588 | Ronald J. Sheppard | HomeGold Financial, Inc | HomeGold Financial, Inc.
20002595 | Lafarge S.A | Tod F. Kingsland | La Habra Products, Inc.
20002620 | MedicaLogic, Inc | Medscape, Inc | Medscape, Inc.
20002651 | CBS Corporation | MedicaLogic, Inc | MedicaLogic, Inc.
20002655 | Brooks Automation, Inc. | Irvine Optical Company, LLC | Irvine Optical Company, LLC.
20002673 | Exodus Communications, Inc | VBI Corporation | Mirror Image Internet, Inc.
20002695 | Sema Group plc | LHS Group, Inc | LHS Group, Inc.
20002706 | TALK.com Inc | Access One Communications Corp | Access One Communications Corp
20002713 | Ralcorp Holdings, Inc | Edward A. Smith | James P. Linette, Inc.
20002734 | James T. Martin, a natural person | Welsh, Carson, Anderson & Stowe VIII, L.P | Newco.
Transactions Granted Early Termination—04/20/2000
20002604 | The News Corporation Limited | The News Corporation Limited | FIT TV Partnership.
20002633 | S.C.R.-Sibelco S.A | Sud-Chemie AG | Sud-Chemie AG.
20002719 | Odyessey Investment Partners Fund, L.P | Dayton Superior Corporation | Dayton Superior Corporation.
20002721 | Wellspring Capital Partners, II, L.P | William S. Everitt | Brook Mays Music Company.
20002723 | CBS Corporation | Bernard Waterman | Waterman Broadcasting Corporation of Texas.
20002727 | Robert L. Johnson | Vanguarde Holdings, Inc | Vanguarde Holdings, Inc.
20002731 | Consolidated Engineering Services Partnership | Richard Mooney | Hayes Mechanical, Inc.
20002732 | Consolidated Engineering Services Partnership | John D. Mooney | Hayes Mechanical, Inc.
20002745 | Tele Atlas B.V | Sony Corporation | Etak, Inc.
20002748 | The Hearst Trust | Women.com Networks, Inc | Women.com Networks, Inc.
20002754 | Toyoda Automatic Loom Works, LTD | BT Industries AB | BT Industries AB.
Transactions Granted Early Termination—04/21/2000
20002171 | Therma-Tru-Corp | General Products Company, Inc | General Products Company, Inc.
20002554 | Randall L. Moffat | Leonard Miller | Strategic Technologies, Inc.
20002635 | Partners HealthCare System, Inc | Brigham Surgical Group Foundation, Inc | Brigham Surgical Group Foundation, Inc.
20002646 | North Castle Partners II, L.P | Mario and Cherly Tricoci | Tricoci, Inc.
20002654 | Amsung Corp | Physicians Resource Group, Inc | Physicians Resource Group, Inc.
20002718 | Heritage Fund II, L.P | Jerry Seligsohn | FADA Industries, Inc.
20002722 | Motorola, Inc | GMP Companies, Inc | GMP Companies, Inc

For Further Information Contact: Sandra M. Peay or Parcellena P. Fielding, Contract Representatives, Federal Trade Commission, Premerger Notification Office, Bureau of Competition, Room 303, Washington, DC 20580, (202) 326-3100.

By Direction of the Commission.
Donald S. Clark,
Secretary.

[FR Doc. 00-12126 Filed 5-12-00; 8:45 am]

BILLING CODE 6750-01-M